DEPARTMENT OF COMMERCE

National Oceanic and Atmospheric Administration

RIN 0648-XG354

Magnuson-Stevens Act Provisions; General Provisions for Domestic Fisheries; Monkfish Research Set-Aside Exempted Fishing Permit Adjustment

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an adjustment to increase the total weight of monkfish allowed to be harvested under the two existing exempted fishing permits issued for the 2017 monkfish research set-aside program warrants further consideration. This notice provides interested parties the opportunity to comment on the proposed change to these exempted fishing permits.

DATES: Comments must be received on or before August 16, 2018.

ADDRESSES: You may submit written comments by any of the following methods:

• Email: NMFS.GAR.EFP@noaa.gov. Include in the subject line “Comments on 2017 Monkfish RSA DAS Pound Increase.”

• Mail: Michael Pentony, Regional Administrator, NMFS, Greater Atlantic Regional Office, 55 Great Republic Drive, Gloucester, MA 01930. Mark the outside of the envelope “Comments on 2017 Monkfish RSA DAS Pound Increase.”

FOR FURTHER INFORMATION CONTACT: Cynthia Hanson, Fishery Management Specialist, 978-281-9180, Cynthia.Hanson@noaa.gov.

SUPPLEMENTARY INFORMATION: Exempted Fishing Permits (EFP) that waive monkfish landing limits for designated Research Set-Aside (RSA) days-at-sea (DAS) have been routinely issued since 2007 to increase operational efficiency and to optimize research funds generated under the Monkfish RSA Program. Amendment 2 to the Monkfish Fishery Management Plan (FMP) (70 FR 21929; April 28, 2005) specifies that 500 RSA DAS are set aside each year to support approved monkfish research projects. Award recipients receive an allocation of those 500 RSA DAS, and their EFP limits the maximum weight of monkfish that may be landed under their allocated RSA DAS. Projects are constrained to the total DAS, maximum landing weight, or EFP expiration date, whichever is reached first. Since the origination of the RSA program in 2007, no project has reached the total DAS or maximum landing weight.

Allowing vessels an exemption from monkfish landing limits provides an incentive for vessel owners to participate in the Monkfish RSA Program. Constraining each project to a maximum harvest limit ensures that the overall Monkfish RSA catch will be consistent with DAS effort and total mortality controls established for the fishery as a whole. To calculate the maximum weight allocation for each year's 500 RSA DAS, we assign each RSA DAS to be equal to twice the limit for a Permit Category A or C monkfish vessel fishing in the Southern Fishery Management Area (i.e., the highest permissible landing limit within the fishery). This means that annually, a maximum weight of 500 times this calculated RSA DAS pound value may be harvested under the Monkfish RSA program, and each project is limited to this assigned weight value multiplied by their allocated number of RSA DAS.

On April 28, 2017, we issued RSA compensation fishing EFPs to the Cornell Cooperative Extension (Cornell) and the University of Massachusetts School for Marine Science and Technology (SMAST) for their 2017 Monkfish RSA projects. At the time, the associated monkfish landing weight for each 2017 RSA DAS was 3,552 lb (1,611 kg). Cornell was allocated 300 DAS for a maximum weight limit of 1,065,600 lb (483,348 kg) to fund their research. SMAST was allocated the remaining 200 DAS, allowing 710,400 lb (322,232 kg) to be caught for their project. However, on July 12, 2017, Framework Adjustment 10 to the Monkfish FMP (82 FR 32145) increased the industry's DAS allocation and trip limits across the whole monkfish fishery. As a part of the Framework 10 changes, the possession limit for Category A and C vessels in the Southern Area increased from 1,776 lb (806 kg) to 2,037 lb (924 kg).

On June 8 and July 12, 2018, we received requests from Cornell and SMAST, to increase assigned pound value of the 2017 RSA DAS from 3,552 lb (1,611 kg) to 4,074 lb (1,848 kg), commensurate with the Framework 10 possession limit increase already implemented in the fishery. The adjusted total weight limit of each project under this higher DAS valuation would be 1,222,200 lb (554,381 kg) for Cornell and 814,800 lb (369,587 kg) for SMAST. Investigators from Cornell and SMAST have stated there is less incentive for industry to buy RSA DAS now that the possession limits in the fishery have increased through the Framework 10 measures. The requested weight adjustment to RSA DAS would help maintain the relative value of the Monkfish RSA Program, and potentially attract and maintain participants from the fishing industry.

The revised EFPs would not alter the previously approved exemptions, and all participating vessels and allocated RSA DAS would remain the same. The only revision would be the maximum total weight that may be landed under each project. This adjustment would be consistent with changes implemented in the monkfish fishery under Framework 10, and the minimal additional effort that may occur within the RSA program is negligible and within the scope of the analysis originally conducted. The proposed adjustment does not change any of the determinations made during the review and approval of the original 2017 Monkfish RSA EFPs. These EFPs are scheduled to expire April 30, 2019. Because the RSA program is a unique entitlement within the monkfish fishery, we are soliciting public input on the increase in per RSA DAS weight requested by the participating research institutions.

Authority: 16 U.S.C. 1801 et seq.

Dated: July 27, 2018.
Jennifer M. Wallace,
Acting Director, Office of Sustainable Fisheries, National Marine Fisheries Service.

[FR Doc. 2018-16437 Filed 7-31-18; 8:45 am]

BILLING CODE 3510-22-P